NATIONAL INSTITUTE FOR LITERACY

Notice of Meeting; Correction

AGENCY: National Institute for Literacy (NIFL).

ACTION: Notice of meeting. Correction.

SUMMARY: For the notice published in the Federal Register dated March 4, 2002, Volume 67, Number 42, pages 9790-9791, make the following corrections:

On page 9791, under Date and Time, the second day of the Board meeting, “March 15, 2002,” is cancelled. On page 9791, under SUPPLEMENTARY INFORMATION, the Advisory Board meeting on March 15, 2002, is cancelled.

FOR FURTHER INFORMATION CONTACT: Shelly Coles, Executive Assistant, National Institute for Literacy, 1775 I Street, NW., Suite 730, Washington, DC 20006. Telephone number (202) 233-2027, e-mail: scoles@nifl.gov.

Dated: March 8, 2002.
Sharyn M. Abbott,
Executive Officer.

[FR Doc. 02-6068 Filed 3-12-02; 8:45 am]

BILLING CODE 6055-01-P